DEPARTMENT OF HEALTH AND HUMAN SERVICES

Centers for Medicare & Medicaid Services

42 CFR Parts 409 and 488

[CMS-1686-N]

RIN 0938-AT17

Medicare Program; Prospective Payment System and Consolidated Billing for Skilled Nursing Facilities: Revisions to Case-Mix Methodology; Extension of Comment Period

AGENCY: Centers for Medicare & Medicaid Services (CMS), HHS.

ACTION: Advance notice of proposed rulemaking with comment; extension of comment period.

SUMMARY: This document extends the comment period for the advance notice of proposed rulemaking with comment entitled “Medicare Program; Prospective Payment System and Consolidated Billing for Skilled Nursing Facilities: Revisions to Case-mix Methodology” that appeared in the May 4, 2017 Federal Register (82 FR 20980) (the ANPRM). The comment period for the ANPRM, which would end on June 26, 2017, is extended until August 25, 2017.

DATES: The comment period for the ANPRM (82 FR 20980) is extended to 5 p.m., eastern daylight time, on August 25, 2017.

ADDRESSES: In commenting, please refer to file code CMS-1686-ANPRM. Because of staff and resource limitations, we cannot accept comments by facsimile (FAX) transmission.

You may submit comments in one of four ways (please choose only one of the ways listed):

1. Electronically. You may submit electronic comments on this regulation to http://www.regulations.gov. Within the search bar, enter the Regulation Identifier Number associated with this regulation, RIN 0938-AT17, and then click on the “Comment Now” box.

2. By regular mail. You may mail written comments to the following address ONLY: Centers for Medicare & Medicaid Services, Department of Health and Human Services, Attention: CMS-1686-ANPRM, P.O. Box 8016, Baltimore, MD 21244-8016.

Please allow sufficient time for mailed comments to be received before the close of the comment period.

3. By express or overnight mail. You may send written comments to the following address ONLY: Centers for Medicare & Medicaid Services, Department of Health and Human Services, Attention: CMS-1686-ANPRM, Mail Stop C4-26-05, 7500 Security Boulevard, Baltimore, MD 21244-1850.

4. By hand or courier. If you prefer, you may deliver (by hand or courier) your written comments before the close of the comment period to either of the following addresses:

a. Centers for Medicare & Medicaid Services, Department of Health and Human Services, Room 445-G, Hubert H. Humphrey Building, 200 Independence Avenue SW., Washington, DC 20201.

(Because access to the interior of the Hubert H. Humphrey Building is not readily available to persons without Federal Government identification, commenters are encouraged to leave their comments in the CMS drop slots located in the main lobby of the building. A stamp-in clock is available for persons wishing to retain a proof of filing by stamping in and retaining an extra copy of the comments being filed.)

b. Centers for Medicare & Medicaid Services, Department of Health and Human Services, 7500 Security Boulevard, Baltimore, MD 21244-1850.

If you intend to deliver your comments to the Baltimore address, please call telephone number (410) 786-7195 in advance to schedule your arrival with one of our staff members.

Comments mailed to the addresses indicated as appropriate for hand or courier delivery may be delayed and received after the comment period.

FOR FURTHER INFORMATION CONTACT: John Kane, (410) 786-0557.

SUPPLEMENTARY INFORMATION: In the advance notice of proposed rulemaking with comment that appeared in the Federal Register on May 4, 2017 entitled, “Medicare Program; Prospective Payment System and Consolidated Billing for Skilled Nursing Facilities: Revisions to Case-mix Methodology” (82 FR 20980) (the ANPRM), we solicited public comments on potential options we may consider for revising certain aspects of the existing skilled nursing facility (SNF) prospective payment system (PPS) payment methodology to improve its accuracy, based on the results of our SNF Payment Models Research (SNF PMR) project. In particular, in the ANPRM, we sought comments on the possibility of proposing to replace the SNF PPS' existing case-mix classification model, the Resource Utilization Groups, Version 4 (RUG-IV), with a new model, the Resident Classification System, Version I (RCS-I). We also discussed options for how such a change could be implemented, as well as a number of other policy changes we may consider proposing to complement implementation of RCS-I.

We have received an inquiry from professional associations and national industry organizations regarding the 60-day comment period for the ANPRM. These organizations stated that by providing all stakeholders additional time to review and comment upon the ANPRM, they will be able to conduct a more comprehensive review of the refinements we are considering to the SNF PPS payment methodology and provide more meaningful comments. In order to maximize the opportunity for the public to provide meaningful input to CMS, we believe that it is important to allow additional time for the public to prepare comments on the ANPRM. In addition, we believe that granting an extension to the public comment period in this instance would further our overall objective to obtain public input on the potential refinements to the SNF PPS we are considering. Therefore, we are extending the comment period for the ANPRM for an additional 60 days. This document announces the extension of the public comment period for the ANPRM until August 25, 2017.

Dated: June 7, 2017.
Seema Verma,
Administrator, Centers for Medicare & Medicaid Services.

[FR Doc. 2017-12324 Filed 6-13-17; 8:45 am]

BILLING CODE 4120-01-P